DEPARTMENT OF HEALTH AND HUMAN SERVICES

National Institutes of Health

Center for Scientific Review Amended Notice of Meeting

Notice is hereby given of a change in the meeting of the Tumor Microenvironment Study Section, October 13, 2011, 8 a.m. to October 14, 2011, 5 p.m., Doubletree Hotel Washington, 1515 Rhode Island Ave, NW., Washington, DC 20005 which was published in the Federal Register on September 7, 2011, 76 FR 55400-55402.

The meeting will be held at the Hilton Alexandria Mark Center, 5000 Seminary Road, Alexandria, VA 22311. The meeting date and time remain the same. The meeting is closed to the public.

Dated: September 22, 2011.
Jennifer S. Spaeth,
Director, Office of Federal Advisory Committee Policy.

[FR Doc. 2011-24943 Filed 9-27-11; 8:45 am]

BILLING CODE 4140-01-P